FEDERAL COMMUNICATIONS COMMISSION

[WT Docket No. 01-344; FCC 01-359]

Kevin David Mitnick

AGENCY: Federal Communications Commission.

ACTION: Notice.

SUMMARY: In this document, the FCC starts a hearing proceeding regarding the application of Kevin David Mitnick for renewal of his Amateur Radio Station License and General Class Amateur Radio Operator License N6NHG. The hearing gives the Commission an opportunity to ascertain whether Mr. Mitnick's felony convictions render him unqualified to hold such license.

FOR FURTHER INFORMATION CONTACT: Michael J. Wilhelm, Wireless Telecommunications Bureau at (202) 418-0680.

SUPPLEMENTARY INFORMATION: This is a summary of the Federal Communications Commission's Hearing Designation Order, DA 01-359, adopted on December 11, 2001 and released on December 19, 2001. The full text is available for inspection and copying during normal business hours in the FCC Reference Center, Room CY-A257, 445 12th Street, SW., Washington, DC 20554. The complete text may be purchased from the Commission's copy contractor, Qualex International, 445 12th Street, SW., Room CY-B402, Washington, DC 20554. The full text may also be downloaded at: www.fcc.gov. Alternative formats are available to persons with disabilities by contacting Martha Contee at (202) 418-0260 or TTY (202) 418-2555.

1. By this Order, we commence a hearing proceeding before an FCC Administrative Law Judge to determine, ultimately, whether the application of Kevin David Mitnick for renewal of Amateur Radio Station and General Class Operator License N6NHG should be granted. As discussed below, Mr. Mitnick is a convicted felon whose illegal activities have included the interception of electronic communications, computer fraud, wire fraud, and causing damage to computers. Based on the information before us, we believe that Mr. Mitnick's criminal behavior raises a substantial and material question of fact as to whether he possesses the requisite character qualifications to be and remain a Commission licensee. Because we are unable to make a determination that grant of Mr. Mitnick's application would serve the public interest, convenience, and necessity, we hereby designate the application for hearing, as required by section 309(e) of the Communications Act of 1934, as amended.

A. Ordering Clauses

2. Pursuant to sections 4(i) and 309(e) of the Communications Act of 1934, as amended, 47 U.S.C. 154(i), 309(e), the captioned application is designated for hearing in a proceeding before an FCC Administrative Law Judge, at a time and place to be specified in a subsequent Order, upon the following issues:

3. (a) To determine the effect of the criminal convictions of Kevin David Mitnick on his qualifications to be and remain a Commission licensee.

4. (b) In light of the evidence adduced pursuant to the foregoing issues, to determine whether Kevin David Mitnick is qualified to be and remain a Commission licensee.

5. (c) In light of the evidence adduced pursuant to the foregoing issues, to determine whether the captioned application filed by Kevin David Mitnick should be granted.

6. Pursuant to section 4(i) and section 1.221(c) of the Commission's Rules, in order to avail himself of the opportunity to be heard, Mr. Mitnick, in person or by his attorney, shall file with the Commission, within twenty days of the mailing of this Hearing Designation Order to him, a written appearance stating that he will appear on the date fixed for hearing and present evidence on the issues specified herein.

7. Pursuant to section 1.221(c) of the Commission's Rules, if Mr. Mitnick fails to file a written appearance within the twenty-day period, or has not filed prior to the expiration of the twenty-day period a petition to dismiss without prejudice, or a petition to accept, for good cause shown, a written appearance beyond the expiration of the twenty-day period, the Presiding Administration Law Judge shall dismiss the captioned application with prejudice for failure to prosecute.

8. Pursuant to sections 4(i) and 309(e) of the Communications Act of 1934, as amended, the burden of proceeding with the introduction of evidence and the burden or proof with respect to all of the issues specified above shall be on Mr. Mitnick.

9. This Hearing Designation Order contains the statements required by scetion 1.221(a)(1), 1.221(a)(2), 1.221(a)(3), and 1.221(a)(4) of the Commission's Rules.

10. The Commission's Reference Operations Division of the Consumer Information Bureau shall send a copy of this Order, via Certified Mail—Return Receipt Requested, to Kevin David Mitnick at the address specified by him in his captioned application: 7113 W. Gowan Road, Las Vegas, Nevada 89129.

11. The Secretary of the Commission shall cause to have this Hearing Designation Order or a summary thereof published in the Federal Register.

Federal Communications Commission.
William F. Caton,
Acting Secretary.

[FR Doc. 02-2553 Filed 2-1-02; 8:45 am]

BILLING CODE 6712-01-P